NATIONAL AERONAUTICS AND SPACE ADMINISTRATION

[Notice 12-044]

Aerospace Safety Advisory Panel; Meeting.

AGENCY: National Aeronautics and Space Administration (NASA).

ACTION: Notice of meeting.

SUMMARY: In accordance with the Federal Advisory Committee Act, Public Law 92-463, as amended, the National Aeronautics and Space Administration announces a forthcoming meeting of the Aerospace Safety Advisory Panel.

DATES: Friday, July 20, 2012, 11:30 a.m. to 12:30 p.m. EDT.

ADDRESSES: Kennedy Space Center Visitor Complex, Debus Center, SR 405, Kennedy Space Center, FL 32899.

FOR FURTHER INFORMATION CONTACT: Ms. Harmony Myers, Aerospace Safety Advisory Panel Executive Director, National Aeronautics and Space Administration, Washington, DC 20546, (202) 358-1857.

SUPPLEMENTARY INFORMATION: The Aerospace Safety Advisory Panel (ASAP) will hold its 3rd Quarterly Meeting for 2012. This discussion is pursuant to carrying out its statutory duties for which the Panel reviews, identifies, evaluates, and advises on those program activities, systems, procedures, and management activities that can contribute to program risk. Priority is given to those programs that involve the safety of human flight. The agenda will include:

• Updates on the Space Launch System

• Updates on the Multi-Purpose Crew Vehicle

• Updates on the Commercial Crew Program

• Kennedy Space Center Safety Program Overview

• NASA Responses to ASAP Recommendations

The meeting will be open to the public up to the seating capacity of the room. Seating will be on a first-come basis. Visitors will be requested to sign a visitor's register. Photographs will only be permitted during the first 10 minutes of the meeting. During the first 30 minutes of the meeting, members of the public may make a 5-minute verbal presentation to the Panel on the subject of safety in NASA. To do so, please contact Ms. Susan Burch at susan.burch@nasa.gov at least 48 hours in advance. Any member of the public is permitted to file a written statement with the Panel at the time of the meeting. Verbal presentations and written comments should be limited to the subject of safety in NASA. Any member of the public desiring to attend the ASAP 2012 3rd Quarterly Meeting at the Kennedy Space Center Visitor Complex must provide their full name and company affiliation (if applicable) to Susan Burch at susan.burch@nasa.gov by July 13, 2012. Upon arrival at the Kennedy Space Center Visitor Complex, pre-registered public attendees will be given a ticket permitting access to the public meeting. Please arrive at least 15 minutes in advance to process through security. It is imperative that the meeting be held on this date to accommodate the scheduling priorities of the key participants.

Patricia D. Rausch,
Advisory Committee Management Officer, National Aeronautics and Space Administration.

[FR Doc. 2012-15546 Filed 6-25-12; 8:45 am]

BILLING CODE 7510-13-P